FEDERAL DEPOSIT INSURANCE CORPORATION

Agency Information Collection Activities: Submission for OMB Review; Comment Request; Basel II Recordkeeping and Disclosures

AGENCY: Federal Deposit Insurance Corporation (FDIC).

ACTION: Notice and request for comments.

SUMMARY: The FDIC, as part of its continuing effort to reduce paperwork and respondent burden, invites the general public and other Federal agencies to take this opportunity to comment on information collections, as required by the Paperwork Reduction Act of 1995, Public Law 104-13 (44 U.S.C. 3506(c)(2)(A). On September 10, 2012, the FDIC requested comment for 60 days on a proposal to extend without revision its Basel II—Recordkeeping and Disclosures information collection, which is currently approved under OMB Control No. 3064-0153. No comments were received on the proposal. The FDIC hereby gives notice of its plan to submit to OMB a request to approve extension of the collection without change pending finalization of proposed rules published in the Federal Register on August 30, 2012, and entitled Regulatory Capital Rules: Regulatory Capital, Implementation of Basel III, Minimum Regulatory Capital Ratios, Capital Adequacy, Transition Provisions, and Prompt Corrective Action (77 FR 52792); Regulatory Capital Rules: Standardized Approach for Risk-Weighted Assets; Market Discipline and Disclosure Requirements (77 FR 52888); Regulatory Capital Rules: Advanced Approaches Risk-Based Capital Rule; Market Risk Capital Rule (77 FR 52978), and OMB review and action on proposed changes to the collection arising from the rules.

DATES: Comments must be submitted on or before March 14, 2013.

ADDRESSES: Interested parties are invited to submit written comments to the FDIC by any of the following methods:

• http://www.FDIC.gov/regulations/laws/federal/notices.html

• Email: comments@fdic.gov Include the name of the collection in the subject line of the message.

• Mail: Leneta G. Gregorie (202-898-3719), Counsel, Room NY-5050, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Leneta Gregorie, at the FDIC address above.

SUPPLEMENTARY INFORMATION:

Proposal to renew the following currently approved collections of information:

Title: Basel II: Disclosures and Recordkeeping.

OMB Number: 3064-0153.

Frequency of Response: On occasion.

Affected Public: Insured state nonmember banks and state savings institutions.

Estimated Number of Respondents: 8.

Estimated Average Time per Response: implementation—330 hours; systems maintenance—27.9 hours; disclosures—5.79 hours; control, oversight and verification—11.05 hours; documentation—19 hours; and supervisory approvals—16.82 hours.

Total Annual Burden: 3,284 hours.

General Description of Collection: On December 7, 2007, the FDIC, the Office of the Comptroller, and the Federal Reserve Board (collectively, the “Agencies”) issued the joint final rule titled Risk-Based Capital Standards: Advanced Capital Adequacy Framework (final rule) implementing a new risk-based regulatory capital framework for institutions in the United States. The final rule requires certain large or internationally active banks and bank holding companies (BHCs) to (1) adopt a written implementation plan, (2) update that plan for any mergers, (3) obtain prior written approvals for the use of certain approaches for determining risk-weighted assets, and (4) make certain public disclosures regarding their capital ratios, their components, and information on implicit support provided to a securitization. There are no required reporting forms associated with this information collection.

The Agencies, on August 30, 2012, proposed three rules that would amend this collection: Regulatory Capital Rules: Regulatory Capital, Implementation of Basel III, Minimum Regulatory Capital Ratios, Capital Adequacy, Transition Provisions, and Prompt Corrective Action (77 FR 52792); Regulatory Capital Rules: Standardized Approach for Risk-Weighted Assets; Market Discipline and Disclosure Requirements (77 FR 52888); and Regulatory Capital Rules: Advanced Approaches Risk-based Capital Rules; Market Risk Capital Rule (77 FR 52978). An information collection request to revise and rename the collection on the basis of the three rules was submitted to OMB for review in response to which OMB, on February 1, 2013, filed a comment, requesting that the Agencies resubmit their information collection requests when the proposed rules are finalized. Since the FDIC's collection expires on February 28, 2013, the FDIC is proceeding with the renewal process for the existing collection to ensure its continuation until such time as the proposed rules are finalized and the FDIC resubmits to OMB its request to revise the collection.

Request for Comment

Comments are invited on: (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Federal Deposit Insurance Corporation.
Dated at Washington, DC, this 7th day of February, 2013.
Robert E. Feldman.
Executive Secretary.

[FR Doc. 2013-03183 Filed 2-11-13; 8:45 am]

BILLING CODE 6714-01-P